COMMITTEE FOR PURCHASE FROM PEOPLE WHO ARE BLIND OR SEVERELY DISABLED

Procurement List; Additions and Deletion

AGENCY: Committee for Purchase From People Who Are Blind or Severely Disabled.

ACTION: Additions to and deletion from the Procurement List.

SUMMARY: This action adds products to the Procurement List that will be furnished by nonprofit agencies employing persons who are blind or have other severe disabilities, and deletes a service from the Procurement List previously furnished by such agencies.

DATES: Date added to and deleted from the Procurement List: June 2, 2019.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 3/15/2019, 3/22/2019 and3/29/2019, the Committee for Purchase From People Who Are Blind or Severely Disabled published notice of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSNs—Product Names:

MR 10777—Platters, Christmas, Red, Includes Shipper 20777

MR 10778—Platters, Christmas, Blue, Includes Shipper 20777

MR 11102—Bags, Roasting, Includes Shipper 21102

MR 11103—Pan, Roasting, Oval, Includes Shipper 21103

MR 11101—Paper, Parchment, Includes Shipper 21101

Mandatory Source of Supply: Winston-Salem Industries for the Blind, Inc., Winston-Salem, NC

Contracting Activity: Military Resale-Defense Commissary Agency

NSN—Product Name: 7930-00-NIB-2184—Towelettes, Lens Cleaning, Pocket Sized

Mandatory Source of Supply: West Texas Lighthouse for the Blind, San Angelo, TX

Mandatory Source of Supply: MidWest Enterprises for the Blind, Inc., Kalamazoo, MI

7240-00-NIB-0024—Dolly, Round, 5-Wheeled, Quiet Wheels, Black/Red

7240-00-NIB-0025—Dolly, Round, 5-Wheeled, Black/Grey

Mandatory Source of Supply: MidWest Enterprises for the Blind, Inc., Kalamazoo, MI

Mandatory For: Total Government Requirement

Contracting Activity: FEDERAL ACQUISITION SERVICE, GSA/FSS GREATER SOUTHWEST ACQUISITI

NSN—Product Name: 2815-01-464-5543—Parts Kit, Piston Assembly, HMMWV Engine

Mandatory Source of Supply: Georgia Industries for the Blind, Bainbridge, GA

Contracting Activity: DEFENSE LOGISTICS AGENCY, DLA LAND AND MARITIME

Deletions

On 3/22/2019, the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following service is deleted from the Procurement List:

Service

Service Type: Supply and Warehousing Service

Mandatory for: The Dredge WHEELER Spare Parts Warehouse, Harahan, LA

Mandatory Source of Supply: The Lighthouse for the Blind in New Orleans, Inc., New Orleans, LA

Contracting Activity: DEPT OF THE ARMY, W40M RHCO-ATLANTIC USAHCA

Patricia Briscoe,
Deputy Director, Business Operations (Pricing and Information Management).

[FR Doc. 2019-09049 Filed 5-2-19; 8:45 am]

BILLING CODE 6353-01-P